DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On November 8, 2022, OFAC determined that the property and interests in property subject to U.S. jurisdiction of the following persons are blocked under the relevant sanctions authority listed below.

Individuals

1. OO, Kyaw Min, Yangon, Burma; DOB 18 Jan 1982; nationality Burma; Gender Male; National ID No. 14/MAMAKA N 140703 (Burma) (individual) [BURMA-EO14014].

Designated pursuant to section 1(a)(i) of Executive Order 14014 of February 10, 2021, “Blocking Property With Respect to the Situation in Burma” (“E.O. 14014”), 86 FR 9429, for operating in the defense sector of the Burmese economy or any other sector of the Burmese economy as may be determined by the Secretary of the Treasury, in consultation with the Secretary of State.

Entities

1. SKY AVIATOR COMPANY LIMITED (a.k.a. SKY AVIATOR CO.; a.k.a. SKY AVIATOR CO., LTD.; a.k.a. SKY AVIATOR COMPANY LTD.; a.k.a. “SKY AVIATOR”), No. 286, Bogyoke Street, Ward No. 2, Waibargi, North Okkalarpa Township, Yangon Region, Burma; No. 204/2, Myinthar 11th Street, Ward 14/1, South Okkalarpa Township, Yangon, Burma; Target Type Private Company; Business Registration Number 100789450 (Burma) [BURMA-EO14014].

Designated pursuant to section 1(a)(i) of E.O. 14014 for operating in the defense sector of the Burmese economy or any other sector of the Burmese economy as may be determined by the Secretary of the Treasury, in consultation with the Secretary of State.

Authority: E.O. 14014, 86 FR 9429.

Dated: November 8, 2022.
Andrea M. Gacki,
Director, Office of Foreign Assets Control, U.S. Department of the Treasury.

[FR Doc. 2022-24736 Filed 11-14-22; 8:45 am]

BILLING CODE 4810-AL-P